DEPARTMENT OF HOUSING AND URBAN DEVELOPMENT

[Docket No. FR-5916-C-14]

60-Day Notice of Proposed Information Collection: Family Report, Moving to Work Family Report

AGENCY: Office of the Assistant Secretary for Public and Indian Housing, HUD.

ACTION: Correction, notice.

SUMMARY: HUD is seeking approval from the Office of Management and Budget (OMB) for the information collection below. In accordance with the Paperwork Reduction Act, HUD is requesting comment from all interested parties on the proposed collection of information. The purpose of this notice is to allow for 60 days of public comment. This is a correction to the notice that is already published. Please disregard the notice that was published on August 19, 2016 at 81 FR 55475.

DATES: Comments Due Date: November 25, 2016.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Information Relay Service at (800) 877-8339. Copies of available documents submitted to OMB may be obtained from Ms. Mussington.

SUPPLEMENTARY INFORMATION: This notice informs the public that HUD is seeking approval from OMB for the information collection described in Section A.

A. Overview of Information Collection

Title of Information Collection: Family Report, MTW Family Report.

OMB Approval Number: 2577-0083.

Type of Request: Extension of currently approved collection.

Form Number: Form HUD 50058 Family Report, and HUD 50058 MTW Family Report.

Description of the need for the information and proposed use: The Office of Public and Indian Housing of the Department of Housing and Urban Development (HUD) provides funding to Public Housing Agencies (PHAs) to administer assisted housing programs. Form HUD-50058 MTW Family Reports solicit demographic, family profile, income and housing information on the entire nationwide population of tenants residing in assisted housing. The information collected through the Form HUD-50058 MTW will be used to monitor and evaluate the Office of Public and Indian Housing, Moving to Work (MTW) Demonstration program which includes Public Housing, Section 8 Housing Choice Voucher, Section 8 Project Based Certificates and Vouchers, Section 8 Moderate Rehabilitation and Moving to Work (MTW) Demonstration programs.

Tenant data is collected to understand demographic, family profile, income, and housing information for participants in the Public Housing, Section 8 Housing Choice Voucher, Section 8 Project Based Certificate, Section 8 Moderate Rehabilitation, and Moving to Work Demonstration programs. This data also allows HUD to monitor the performance of programs and the performance of public housing agencies that administer the programs.

Reason for PRA

• The current versions of Forms HUD 50058 Family Report and HUD 50058 MTW Family Report are set to expire later this year.

• HUD is seeking to renew Forms HUD 50058 Family Report and HUD 50058 MTW Family Report with no changes.

Members of affected public: Public Housing Agencies, State and local governments, individuals and households.

Information collection | Number of respondents (PHA) (with responses) | * Average number of reponses per respondent (with responses) | Total annual responses | Minutes per response | Total hours | Regulatory reference (24 CFR)
Form HUD-50058 New Admission | 4,114 | 87 | 355,984 | 40 | 237,323 | 908.101
Form HUD-50058 Recertification | 4,114 | 583 | 2,398,340 | 20 | 799,447 | 908.101
Form HUD-50058 MTW New Admission | 39 | 529 | 20,631 | 40 | 13,754 | 908.101
Form HUD-50058 MTW Recertification | 39 | 4,018 | 156,702 | 20 | 52,234 | 908.101
4,153; Total Responses: 2,908,469; Total Hours: 1,092,656.
* Average Number of Responses per Respondents = Total Annual Responses/Number of Respondents
Estimated annualized hourly cost to respondents (PHA); Form HUD-50058: To report using Form HUD-50058 Family Report, it will cost the average PHA $1,000.04 annually to enter and submit all data for New Admission and $3,368.73 annually for Recertification.

B. Solicitation of Public Comment

This notice is soliciting comments from members of the public and affected parties concerning the collection of information described in Section A on the following:

(1) Ways to enhance the quality, utility, and clarity of the information to be collected; and

(2) Ways to minimize the burden of the collection of information on those who are to respond; including through the use of appropriate automated collection techniques or other forms of information technology, e.g., permitting electronic submission of responses.

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapter 35.

Dated: September 7, 2016.
Danielle Bastarache,
Deputy Assistant Secretary, Office of Policy, Programs and Legislative Initiatives.

[FR Doc. 2016-23000 Filed 9-23-16; 8:45 am]

BILLING CODE 4210-67-P